DEPARTMENT OF COMMERCE

National Oceanic and Atmospheric Administration

[I.D. 061902A]

Extension of Public Comment Period for a Proposed Information Collection of Social Science Data for Alaska Fisheries

AGENCY: National Marine Fisheries Service (NMFS), National Oceanic and Atmospheric Administration (NOAA).

ACTION: Notice.

SUMMARY: On April 17, 2002, the Department of Commerce published a Federal Register notice that solicited public comment on a proposed information collection entitled “Social Science Data for Alaska Fisheries”. The solicitation of public comment is required by the Paperwork Reduction Act of 1995, Pub. L. 104-13 (44 U.S.C. 3506(c)(2)(A)). The Department has received a request to extend the original deadline for comments from June 17, 2002, to July 1, 2002. This notice extends the comment period to that date. All comments received from the original closing date until the close of business July 1, 2002, will be considered timely.

DATES: Written comments must be submitted on or before July 1, 2002.

ADDRESSES: Direct all written comments to Madeleine Clayton, Departmental Paperwork Clearance Officer, Department of Commerce, Room 6608, 14th and Constitution Avenue NW, Washington DC 20230 (or via the Internet at MClayton@doc.gov).

FOR FURTHER INFORMATION CONTACT: Requests for additional information or copies of the information collection instrument(s) and instructions should be directed to Jennifer Sepez, Anthropologist, Alaska Fisheries Science Center, 7600 Sand Point Way NE, Seattle, WA 98115-0070 (Jennifer.Sepez@noaa.gov).

Dated: June 18, 2002.
Madeleine Clayton,
Departmental Paperwork Clearance Officer, Office of the Chief Information Officer.

[FR Doc. 02-15886 Filed 6-21-02; 8:45 am]

BILLING CODE 3510-22-S